NATIONAL CREDIT UNION ADMINISTRATION

Agency Information Collection Activities: Proposed Collection

AGENCY: National Credit Union Administration (NCUA).

ACTION: Notice and request for comments.

SUMMARY: The National Credit Union Administration (NCUA), as part of a continuing effort to reduce paperwork and respondent burden, invites the general public and other Federal agencies to comment on the following new collection, as required by the Paperwork Reduction Act of 1995.

DATES: Written comments should be received on or before November 20, 2023 to be assured consideration.

ADDRESSES: Interested persons are invited to submit written comments on the information collection to Mahala Vixamar, National Credit Union Administration, 1775 Duke Street, Suite 6032, Alexandria, Virginia 22314; email at PRAComments@NCUA.gov.

FOR FURTHER INFORMATION CONTACT: Address requests for additional information to Mahala Vixamar at the address above or telephone (703) 718-1155.

SUPPLEMENTARY INFORMATION:

OMB Number: 3133-NEW.

Title: Supervisory Stress Test Annual Data Collection, 12 CFR part 702, subpart C.

Type of Review: New collection.

Abstract: The NCUA Board (Board) has determined, to protect the National Credit Union Share Insurance Fund (NCUSIF) and the credit union system, that the largest Federally Insured Credit Unions (FICUs) should have systems and processes in place to monitor and maintain their capital adequacy. Subpart C of part 702 of NCUA's regulations codifies capital planning and stress testing requirements for federally insured credit unions with $10 billion or more in assets (covered credit unions). Covered credit unions are further delineated by asset tiers. Tier I are credit union with $10 billion or more in total assets, but less than $15 billion in total assets; tier II are credit union with $15 billion or more in total assets, but less than $20 billion in total assets; and tier III are credit union with $20 billion or more in total assets. Tier II and III credit unions are required to conduct supervisory stress tests and section 702.306 (b) codifies that NCUA reserves the right to conduct stress tests of covered credit unions at any time and where both NCUA and a covered credit union have conducted the tests, the results of NCUA's tests will determine whether the covered credit union has met the requirements of this subpart. To facilitate NCUA's ability to conduct supervisory stress test on covered credit unions, section 702.306(d) requires that covered credit unions must provide NCUA with any relevant qualitative or quantitative information requested by NCUA pertinent to capital plans or stress test under this part.

Affected Public: Private sector: Not-for-profit institutions.

Estimated Number of Respondents: 12.

Estimated Number of Responses per Respondent: 1.

Estimated Total Annual Responses: 12.

Estimated Hours per Response: 20.

Estimated Total Annual Burden Hours: 240.

Request for Comments: Comments submitted in response to this notice will be summarized and included in the request for Office of Management and Budget approval. All comments will become a matter of public record. The public is invited to submit comments concerning: (a) whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2023-20453 Filed 9-20-23; 8:45 am]

BILLING CODE 7535-01-P